DEPARTMENT OF AGRICULTURE

Agricultural Marketing Service

7 CFR Part 37

[Doc. # AMS-LPS-15-0054]

Removal of Program To Assess Organic Certifying Agencies in 7 CFR Part 37

AGENCY: Agricultural Marketing Service, USDA.

ACTION: Direct final rule.

SUMMARY: This final rule informs the public that the Agricultural Marketing Service (AMS) of the United States Department of Agriculture (USDA) is removing the Program to Assess Organic Certifying Agencies from the Code of Federal Regulations. This action removes unnecessary regulations from the CFR. Since the publication of the organic regulations, the Program to Assess Organic Certifying Agencies is no longer applicable or necessary.

DATES: This rule is effective November 7, 2016 without further action, unless adverse comment is received by September 8, 2016. If adverse comment is received, AMS will publish a timely withdrawal of the rule in the Federal Register.

ADDRESSES: Comments should be submitted online at www.regulations.gov. Comments received will be posted without change, including any personal information provided. All comments should reference the docket number AMS-LPS-15-0054, the date of submission, and the page number of this issue of the Federal Register. Comments may also be submitted to: Jeffrey Waite, Branch Chief, Auditing Services Branch, Quality Assessment Division; Livestock, Poultry, and Seed Program, Agricultural Marketing Service, U.S. Department of Agriculture, 400 Independence Avenue SW., Room 3932-S, STOP 0258, 1400 Independence Avenue SW., Washington, DC 20250-0258. Comments will be made available for public inspection at the above address during regular business hours or online at www.regulations.gov.

FOR FURTHER INFORMATION CONTACT: Jeffrey Waite, Branch Chief, Auditing Services Branch, Quality Assessment Division; Livestock, Poultry, and Seed Program, Agricultural Marketing Service, U.S. Department of Agriculture, Room 3932-S, STOP 0258, 1400 Independence Avenue SW., Washington, DC 20250-0258; telephone (202) 720-4411, or email Jeffrey.Waite@ams.usda.gov.

SUPPLEMENTARY INFORMATION:

Executive Orders 12866 and 13563

Executive Orders 12866 and 13563 direct agencies to assess all costs and benefits of available regulatory alternatives and, if regulation is necessary, to select regulatory approaches that maximize net benefits (including potential economic, environmental, public health and safety effects, distributive impacts, and equity). Executive Order 13563 emphasizes the importance of quantifying both costs and benefits, reducing costs, harmonizing rules, and promoting flexibility. This rule has been determined not to be significant for purposes of Executive Order 12866 or Executive Order 13563. Accordingly, the Office of Management and Budget (OMB) has waived the review process.

Executive Order 13175

This rule has been reviewed in accordance with the requirements of Executive Order 13175, Consultation and Coordination with Indian Tribal Governments. The review reveals that this regulation does not have tribal implications, in that it would not have substantial direct effects on Tribal governments.

Regulatory Flexibility Act

The purpose of the Regulatory Flexibility Act (RFA) [5 U.S.C. 601-612] is to fit regulatory actions to the scale of businesses subject to such actions so small businesses will not be unduly or disproportionately burdened. AMS has determined that this rule will not have a significant impact on a substantial number of small entities, as defined by RFA, because the services are voluntary and provided on a fee-for-service basis, and are not subject to scalability based on the business size. Moreover, there are no entities being provided services under this part.

AMS is committed to complying with the E-Government Act to promote the use of the Internet and other information technologies to provide increased opportunities for citizen access to government information and services, and for other purposes.

USDA has not identified any relevant Federal rules that duplicate, overlap, or conflict with this rule.

Paperwork Reduction Act

In accordance with the Paperwork Reduction Act of 1995 [44 U.S.C. chapter 35], it has been determined that this rule will not change the information collection and recordkeeping requirements previously approved, and will not impose additional reporting or recordkeeping burden on users.

The information collection and recordkeeping requirements of this part were approved by OMB under 44 U.S.C. chapter 35 and assigned OMB Control Number 0581-0183. The information collection was retired by OMB on its expiration date of April 30, 2003. A change of worksheet was submitted to OMB on February 21, 2003, to terminate that collection because form LS-314 Application for Service was obsolete. Form LS-313 Application for Service and the ISO 65 Guidelines were transferred to OMB Control Number 0581-0191 for the National Organic Program (NOP). As a result, no information collection under 7 CFR part 37 remained.

Executive Order 12988

This rule has been reviewed under Executive Order 12988, Civil Justice Reform. This rule is not intended to have retroactive effect. There are no civil justice implications associated with this direct final rule.

Civil Rights Review

AMS has considered the potential civil rights implications of this rule on minorities, women, or persons with disabilities to ensure that no person or group shall be discriminated against on the basis of race, color, national origin, gender, religion, age, disability, sexual orientation, marital or family status, political beliefs, parental status, or protected genetic information. This rule does not require affected entities to relocate or alter their operations in ways that could adversely affect such persons or groups. Further, this rule will not deny any persons or groups the benefits of a program or subject any persons or groups to discrimination.

Executive Order 13132

This rule has been reviewed under Executive Order 13132, Federalism, which directs agencies to construe, in regulations and otherwise, a Federal statute to preempt state law only when the statute contains an express preemption provision. There are no federalism implications associated with this rule.

Background

The Program to Assess Organic Certifying Agencies was published through a Federal Register Interim Final Notice (64 FR 30867) on June 9, 1999, under the authority of the Agricultural Marketing Act of 1946 [7 U.S.C. 1621-1627]. It authorized AMS to assess certifying agencies to the International Organization for Standardization/International Electrotechnical Commission (ISO/IEC) Guide 65:1996 General requirements for bodies operating product certification systems. While the Organic Foods Production Act of 1990 had been signed into law, AMS had not yet promulgated regulations to establish the NOP. In their absence, the Program to Assess Organic Certifying Agencies provided AMS the legal framework to assess organic certifying agencies. However, when AMS published the national standards for organic products on December 21, 2000, no action was taken to remove 7 CFR part 37. The publication of the NOP Final Rule (7 CFR part 205) nullified the Program to Assess Organic Certifying Agencies.

List of Subjects in 7 CFR Part 37

Administrative practice and procedure, Agriculture, Assessment of organic certifying agencies, Incorporation by reference, Organically produced agricultural commodities, Reporting and recordkeeping requirements.

Accordingly, under the authority 7 U.S.C. 1621-1627, and as discussed in the preamble, the Agency is amending 7 CFR chapter 1 by removing part 37.

PART 37—[REMOVED]

1. Remove part 37.

Dated: July 29, 2016.
Elanor Starmer,
Administrator, Agricultural Marketing Service.

[FR Doc. 2016-18436 Filed 8-8-16; 8:45 am]

BILLING CODE 3410-02-P